ENVIRONMENTAL PROTECTION AGENCY

40 CFR Part 300

[EPA-HQ-SFUND-2001-0002; FRL-9920-08-Region-2]

National Oil and Hazardous Substances Pollution Contingency Plan; National Priorities List: Deletion of the Consolidated Iron and Metal Superfund Site

AGENCY: Environmental Protection Agency.

ACTION: Final rule.

SUMMARY: The Environmental Protection Agency (EPA), Region 2, announces the deletion of the Consolidated Iron and Metal Superfund Site (Site) located in the City of Newburgh, Orange County, New York, from the National Priorities List (NPL). The NPL, promulgated pursuant to section 105 of the Comprehensive Environmental Response, Compensation, and Liability Act (CERCLA) of 1980, as amended, is an appendix of the National Oil and Hazardous Substances Pollution Contingency Plan (NCP). The EPA and the State of New York, through the New York State Department of Environmental Conservation (NYSDEC), have determined that all appropriate response actions under CERCLA, other than operation, maintenance, and five-year reviews, have been completed. However, this deletion does not preclude future actions under Superfund.

DATES: This action is effective on December 3, 2014.

ADDRESSES: Docket: EPA has established a docket for this action under Docket Identification No. EPA-HQ-SFUND-2001-0002. All documents in the docket are listed on the http://www.regulations.gov Web site. Although listed in the index, some information is not publicly available, e.g., Confidential Business Information or other information whose disclosure is restricted by statute. Certain other material, such as copyrighted material, is not placed on the Internet and will be publicly available only in hard copy form. Publicly available docket materials are available either electronically through http://www.regulations.gov or in hard copy at the Site information repositories. Locations, contacts, phone numbers and viewing hours are: U.S. Environmental Protection Agency, Region 2, Superfund Records Center, 290 Broadway, 18th Floor, New York, NY 10007-1866, Phone: 212-637-4308, Hours: Monday to Friday from 9:00 a.m. to 5:00 p.m. and Newburgh Free Library, Consolidated Iron and Metal Site Repository File, 124 Grand Street, Newburgh, NY 12550, Phone: 845-563-3600, Hours: Monday & Thursday from 9:00 a.m. to 9:00 p.m., Tuesday, Wednesday, & Friday from 9:00 a.m. to 5:00 p.m., Saturday from 10:00 a.m. to 3:00 p.m.

FOR FURTHER INFORMATION CONTACT: Michael Negrelli, Remedial Project Manager, U.S. Environmental Protection Agency, Region 2, Emergency and Remedial Response Division, 290 Broadway, 20th Floor, New York, NY 10007-1866; (212) 637-4248; negrelli.mike@epa.gov.

SUPPLEMENTARY INFORMATION: The site to be deleted from the NPL is: Consolidated Iron and Metal Superfund Site, City of Newburgh, Orange County, New York. A Notice of Intent to Delete for this Site was published in the Federal Register FRL-9917-27-Region-2 on October 1, 2014, (79 FR 59182).

The closing date for comments on the Notice of Intent to Delete was October 30, 2014. No adverse public comments were received and therefore no response to comments was required. The deletion action is appropriate.

EPA maintains the NPL as the list of sites that appear to present a significant risk to public health, welfare, or the environment. Deletion from the NPL does not preclude further remedial action. Whenever there is a significant release from a site deleted from the NPL, the deleted site may be restored to the NPL without application of the hazard ranking system. Deletion of a site from the NPL does not affect responsible party liability in the unlikely event that future conditions warrant further actions.

List of Subjects in 40 CFR Part 300

Environmental protection, Air pollution control, Chemicals, Hazardous waste, Hazardous substances, Intergovernmental relations, Penalties, Reporting and record keeping requirements, Superfund, Water pollution control, Water supply.

Dated: November 18, 2014.
Judith A. Enck,
Regional Administrator, EPA, Region 2.

For the reasons set out in the preamble, 40 CFR part 300 is amended as follows:

PART 300—NATIONAL OIL AND HAZARDOUS SUBSTANCES POLLUTION CONTINGENCY PLAN

1. The authority citation for part 300 continues to read as follows:

Authority: 33 U.S.C. 1321(c)(2); 42 U.S.C. 9601-9657; E.O. 12777, 56 FR 54757, 3 CFR 1991 Comp., p. 351; E.O. 12580, 52 FR 2923, 3 CFR 1987 Comp., p. 193.

2. Table 1 of Appendix B to part 300 is amended by removing “NY”, “Consolidated Iron and Metal”, “Newburgh”.

[FR Doc. 2014-28445 Filed 12-2-14; 8:45 am]

BILLING CODE 6560-50-P